POSTAL SERVICE

Board of Governors; Sunshine Act Meeting

Time and Date: 1 p.m., Thursday, January 22, 2009.

Place: Washington, DC at U.S. Postal Service Headquarters, 475 L'Enfant Plaza, SW.

Status: Closed.

Matters to be Considered:

Thursday, January 22 at 1:00 p.m. (Closed)

1. Pricing.

2. Financial Matters.

3. Strategic Issues.

Contact Person for More Information: Julie S. Moore, Secretary of the Board, U.S. Postal Service, 475 L'Enfant Plaza, SW., Washington, DC 20260-1000. Telephone (202) 268-4800.

Julie S. Moore,
Secretary.

[FR Doc. E9-831 Filed 1-13-09; 11:15 am]

BILLING CODE 7710-12-P